DEPARTMENT OF TRANSPORTATION

Federal Aviation Administration

14 CFR Part 39

[Docket No. FAA-2008-0430; Directorate Identifier 2007-SW-42-AD; Amendment 39-15694; AD 2008-21-10]

RIN 2120-AA64

Airworthiness Directives; Eurocopter France Model AS332 C, L, L1 and L2 Helicopters

AGENCY: Federal Aviation Administration (FAA), Department of Transportation (DOT).

ACTION: Final rule.

SUMMARY: We are adopting a new airworthiness directive (AD) for the specified Eurocopter France (ECF) model helicopters. This AD results from mandatory continuing airworthiness information (MCAI) originated by the aviation authority of France to identify and correct an unsafe condition on an aviation product. The aviation authority of France, with which we have a bilateral agreement, states in the MCAI: “This Airworthiness Directive (AD) is issued following two cases of LH hydraulic power system loss on two AS332 helicopters. In both cases, the pilot received the “low level” hydraulic failure alarm. The investigations conducted on the two helicopters revealed a hydraulic fluid leak from the hydraulic pump casing. In both cases, incorrect position of the liner of the compensating piston had caused the seals to deteriorate. This incorrect positioning of the liner is due to non-compliant application of the repair process by a repair station. Deterioration of hydraulic pumps causes:

• The loss of the RH and LH hydraulic power systems in the event of a substantial hydraulic fluid leak from both hydraulic pumps during a given flight.

• The loss of the hydraulic system concerned, in the event of a substantial hydraulic fluid leak from only one pump.”

This AD requires actions that are intended to address this unsafe condition.

DATES: This AD becomes effective on December 5, 2008.

The incorporation by reference of certain publications is approved by the Director of the Federal Register as of December 5, 2008.

ADDRESSES: You may examine the AD docket on the Internet at http://regulations.gov or in person at the Docket Operations office, U.S. Department of Transportation, M-30, West Building Ground Floor, Room W12-140, 1200 New Jersey Avenue, SE., Washington, DC between 9 a.m. and 5 p.m. Monday through Friday, except Federal holidays.

You may get the service information identified in this AD from American Eurocopter Corporation, 2701 Forum Drive, Grand Prairie, TX 75053-4005, telephone (972) 641-3460, fax (972) 641-3527, or at http://www.eurocopter.com.

Examining the AD Docket: The AD docket contains the Notice of proposed rulemaking (NPRM), the economic evaluation, any comments received, and other information. The street address and operating hours for the Docket Operations office (telephone (800) 647-5527) are in the ADDRESSES section of this AD. Comments will be available in the AD docket shortly after they are received.

FOR FURTHER INFORMATION CONTACT: Uday Garadi, Aviation Safety Engineer, FAA, Rotorcraft Directorate, Regulations and Guidance Group, Fort Worth, Texas 76193-0110, telephone (817) 222-5123, fax (817) 222-5961.

SUPPLEMENTARY INFORMATION:

Discussion

We issued an NPRM to amend 14 CFR part 39 to include an AD that would apply to the specified Eurocopter model helicopters on April 3, 2008. That NPRM was published in the Federal Register on April 22, 2008 (73 FR 21553). That NPRM proposed to replace certain unairworthy hydraulic pumps with airworthy pumps. You may obtain further information by examining the MCAI and any related service information in the AD docket.

Comments

By publishing the NPRM, we gave the public an opportunity to participate in developing this AD. However, we received no comment on the NPRM or on our determination of the cost to the public. Therefore, based on our review and evaluation of the available data, we have determined that air safety and the public interest require adopting the AD as proposed.

Relevant Service Information

Eurocopter France has issued Emergency Alert Service Bulletin No. 01.00.73, dated August 23, 2007 (ASB). The actions described in the MCAI are intended to correct the same unsafe condition as that identified in the ASB.

Differences Between This AD and the MCAI

• We do not require the operator to return the hydraulic pump to the manufacturer nor any action on non-installed hydraulic pumps.

• We changed “flying hours” to “hours time-in-service.”

In making these changes, we do not intend to differ substantively from the information provided in the MCAI. These differences are highlighted in the “Differences Between the FAA and the MCAI” section in the AD.

Costs of Compliance

We estimate that this AD will affect about 4 helicopters of U.S. registry. We also estimate that it will take about 2.5 work-hours per helicopter to inspect and replace one hydraulic pump. The average labor rate is $80 per work-hour. Each pump will cost about $26,000 and require two hydraulic pumps per helicopter. Based on these figures, we estimate the cost of the AD on U.S. operators will be $209,600 to replace all the hydraulic pumps on the U.S. fleet.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on product(s) identified in this rulemaking action.

Regulatory Findings

We determined that this AD will not have federalism implications under Executive Order 13132. This AD will not have a substantial direct effect on the States, on the relationship between the national government and the States, or on the distribution of power and responsibilities among the various levels of government.

Therefore, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-21-10 Eurocopter France: Amendment 39-15694; Docket No. FAA-2008-0430; Directorate Identifier 2007-SW-42-AD.

Effective Date

(a) This airworthiness directive (AD) becomes effective on December 5, 2008.

Other Affected ADs

(b) None.

Applicability

(c) This AD applies to Models AS332C, L, L1, and L2 helicopters, with a hydraulic pump made by Messier-Bugatti, part number C24160-X, C24160-XXX, C241600XX, C241600XX-X, and C241600XX-XXX, with a serial number without the suffix letter “V”, listed in paragraph 1.A.1., of Eurocopter France Emergency Alert Service Bulletin 01.00.73, dated August 23, 2007 (ASB) installed, certificated in any category.

Note: The letter “V” is a suffix marked after the serial number on the pump's identification plate to signify that the pump has been determined to conform to the approved design data.

Reason

(d) The mandatory continuing airworthiness information (MCAI) states: “This Airworthiness Directive (AD) is issued following two cases of LH hydraulic power system loss on two AS332 helicopters. In both cases, the pilot received the `low level' hydraulic failure alarm. The investigations conducted on the two helicopters revealed a hydraulic fluid leak from the hydraulic pump casing. In both cases, incorrect position of the liner of the compensating piston had caused the seals to deteriorate. This incorrect positioning of the liner is due to non-compliant application of the repair process by a repair station. Deterioration of hydraulic pumps causes:

• The loss of the RH and LH hydraulic power systems in the event of a substantial hydraulic fluid leak from both hydraulic pumps during a given flight.

• The loss of the hydraulic system concerned, in the event of a substantial hydraulic fluid leak from only one pump.”

This AD requires actions that are intended to address this unsafe condition.

Actions and Compliance

(e) Unless already done, do the following actions:

(1) Within 15 hours time-in-service (TIS), determine the part number and serial number of the installed hydraulic pumps. If the serial number of both the hydraulic pumps are listed in paragraph 1.A.1. of the ASB, before further flight, replace at least one of the pumps with an airworthy pump with a serial number other than one listed in paragraph 1.A.1 of the ASB or one with a serial number containing the letter “V”. Replace the pump by following the Accomplishment Instructions, paragraph 2. B. of the ASB, except this AD does not require you to return the hydraulic pump to the manufacturer.

(2) Within the next 12 months, replace all remaining hydraulic pumps having a serial number listed in paragraph 1.A.1 of the ASB by following the Accomplishment Instructions, paragraph 2.B. of the ASB, except this AD does not require you to return the hydraulic pump to the manufacturer.

Differences Between This AD and the MCAI

(f) We do not require the operator to return the hydraulic pump to the manufacturer nor do we require any action on non-installed hydraulic pumps. Also, we changed “flying hours” to “hours time-in-service.”

Subject

(g) Air Transport Association of America (ATA) Code: 2913 Hydraulic Pump.

Other Information

(h) The Manager, Safety Management Group, FAA, has the authority to approve AMOCs for this AD, if requested using the procedures found in 14 CFR 39.19. Send information to ATTN: Uday Garadi, Aviation Safety Engineer, Rotorcraft Directorate, Regulations and Guidance Group, Fort Worth, Texas 76193-0110, telephone (817) 222-5123, fax (817) 222-5961.

Related Information

(i) MCAI Airworthiness Directive No.F-2007-010, dated September 12, 2007, contains related information.

Material Incorporated by Reference

(j) You must use the specified portions of Eurocopter France Emergency Alert Service Bulletin 01.00.73, dated August 23, 2007, to do the actions required.

(1) The Director of the Federal Register approved the incorporation by reference of this service information under 5 U.S.C. 552(a) and 1 CFR part 51.

(2) For service information identified in this AD, contact American Eurocopter Corporation, 2701 Forum Drive, Grand Prairie, TX 75053-4005, telephone (972) 641-3460, fax (972) 641-3527, or at http://www.eurocopter.com.

(3) You may review copies at the FAA, Rotorcraft Directorate, Fort Worth, Texas 76193-0112; or at the National Archives and Records Administration (NARA). For information on the availability of this material at NARA, call (202) 741-6030, or go to: http://www.archives.gov/federal-register/cfr/ibr-locations.html.

Issued in Fort Worth, Texas, on September 30, 2008.
Scott A. Horn,
Acting Manager, Rotorcraft Directorate, Aircraft Certification Service.

[FR Doc. E8-24987 Filed 10-30-08; 8:45 am]

BILLING CODE 4910-13-P